ENVIRONMENTAL PROTECTION AGENCY

[ER-FRL-9009-7]

Environmental Impacts Statements; Notice of Availability

Responsible Agency: Office of Federal Activities, General Information (202) 564-7146 or http://www.epa.gov/compliance/nepa/.

Weekly receipt of Environmental Impact Statements

Filed 06/10/2013 Through 06/14/2013

Pursuant to 40 CFR 1506.9.

Notice

Section 309(a) of the Clean Air Act requires that EPA make public its comments on EISs issued by other Federal agencies. EPA's comment letters on EISs are available at http://www/epa.gov/compliance/nepa/eisdata.html.

EIS No. 20130171, Final EIS, BR, CA, Bunker Hill Groundwater Basin, Riverside Corona Feeder Project, Review Period Ends: 07/22/2013, Contact: Amy Witherall 951-695-5310.

EIS No. 20130172, Final Supplement, USACE, MA, Boston Harbor Deep Draft Navigation Improvement Project, Review Period Ends: 07/22/2013, Contact: Mike Keegan 978-318-8087.

EIS No. 20130173, Draft EIS, USA, AK, Fort Wainwright Disposition of Hangars 2 and 3, Comment Period Ends: 08/05/2013, Contact: Lawrence Hirai 210-466-1594.

EIS No. 20130174, Draft EIS, FERC, TX, Toledo Bend Hydroelectric Project No. 2305-036, Comment Period Ends: 08/05/2013, Contact: Alan Mitchnick 202-502-6074.

EIS No. 20130175, Draft EIS, BIA, MT, Proposed Strategies to Benefit Native Species by Reducing the Abundance of Lake Trout in Flathead Lake, Comment Period Ends: 08/05/2013, Contact: Barry Hansen 406-883-2888.

EIS No. 20130176, Draft EIS, APHIS, TX, Cattle Fever Tick Eradication Program—Tick Control Barrier, Comment Period Ends: 08/05/2013, Contact: Michelle Gray 301-851-3186.

EIS No. 20130177, Final EIS, USFS, MT, Wild Cramer Forest Health and Fuels Reduction Project, Flathead National Forest, Review Period Ends: 08/05/2013, Contact: Michele Draggoo 406-387-3827.

Amended Notices

EIS No. 20130146, Final EIS, USFS, CA, Whisky Ridge Ecological Restoration Project, Review Period Ends: 07/15/2013, Contact: Dean A. Gould 559-297-0706. Revision to FR Notice Published 5/31/2013; Change Review Period from 7/1/2013 to 7/15/2013.

Dated: June 18, 2013.
Cliff Rader,
Director, NEPA Compliance Division, Office of Federal Activities.

[FR Doc. 2013-14927 Filed 6-20-13; 8:45 am]

BILLING CODE 6560-50-P